DEPARTMENT OF STATE

[Public Notice 11965]

Notice of Determinations; Additional Culturally Significant Objects Being Imported for Exhibition—Determinations: “Chryssa & New York” Exhibition

SUMMARY: On November 7, 2022, notice was published on page 67111 of the Federal Register (volume 87, number 214) of determinations pertaining to certain objects to be included in an exhibition entitled “Chryssa & New York.” Notice is hereby given of the following determinations: I hereby determine that certain additional objects being imported from abroad pursuant to agreement with their foreign owner or custodian for temporary display in the aforesaid exhibition at the Dia Center for the Arts at Dia Chelsea, New York, New York; the Menil Collection, Houston, Texas; Wrightwood 659, Chicago, Illinois, by Alphawood Foundation, through its subsidiary Alphawood Exhibitions LLC; and at possible additional exhibitions or venues yet to be determined, are of cultural significance, and, further, that their temporary exhibition or display within the United States as aforementioned is in the national interest. I have ordered that Public Notice of these determinations be published in the Federal Register.

FOR FURTHER INFORMATION CONTACT: Elliot Chiu, Attorney-Adviser, Office of the Legal Adviser, U.S. Department of State (telephone: 202-632-6471; email: section2459@state.gov). The mailing address is U.S. Department of State, L/PD, 2200 C Street NW (SA-5), Suite 5H03, Washington, DC 20522-0505.

SUPPLEMENTARY INFORMATION: The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 523 of December 22, 2021.

Stacy E. White,
Deputy Assistant Secretary for Professional and Cultural Exchanges, Bureau of Educational and Cultural Affairs, Department of State.

[FR Doc. 2023-00599 Filed 1-12-23; 8:45 am]

BILLING CODE 4710-05-P